DEPARTMENT OF LABOR

Bureau of Labor Statistics

Business Research Advisory Council; Notice of Meetings and Agenda

The regular Spring meetings of the Business Research Advisory Council and its committees will be held on May 10 and 11, 2000. All of the meetings will be held in the Conference Center of the Postal Square Building, 2 Massachusetts Avenue, NE, Washington, DC.

The Business Research Advisory Council and its committees advise the Bureau of Labor Statistics with respect to technical matters associated with the Bureau's programs. Membership consists of technical officials from American business and industry.

The schedule and agenda for the meetings are as follows:

Wednesday, May 10, 2000—Meeting Rooms 9 & 10

10:00-11:30 a.m.—Council Meeting

1. Chairperson's opening remarks

2. Commissioner Abraham's address and discussion

3. Issues related to e-commerce (Deborah Klein)

1:00-2:30 p.m.—Committee on Employment and Unemployment Statistics

1. E-commerce

a. Alternative definitions

b. How will the North American Industry Classification System (NAICS) facilitate measurement? (John Murphy)

c. Tentative plans for studying aspects of e-commerce with the Occupational Employment Statistics (OES) survey and with a Current Population Survey (CPS) supplement (Mike McElroy)

d. Considering the OES survey:

(a) What are the measurement issues?

(b) What are the questions they can help to answer?

2. Overview of our work with payroll software providers to facilitate responding to BLS surveys (Mike Searson)

3. Current Employment Statistics (CES) sample redesign: initial implementation scheduled for June 2000 (Question and answer only) (Pat Getz)

4. Discussion of agenda items for the Fall 2000 meeting

3:00-4:30 p.m.—Committee on Employment Projections

1. Introductory remarks and overview of current Office projects (Neal Rosenthal)

2. The Office of Employment Projections (OEP)

e-commerce project

a. Introduction (Neal Rosenthal)

b. Definitions/approaches/findings (Dan Hecker and Art Andreassen)

c. Use in OEP projections (Norman Saunders)

3. Discussion of agenda items for the Fall 2000 meeting

Thursday, May 11, 2000—Meeting Rooms 9 & 10

8:30-10:00 a.m.—Committee Compensation and Working Working Conditions

1. Stock options incidence test: preliminary results (Janine Bjurman)

2. Technology interactions with BLS: suggestions, recommendations (Dave Larson)

3. Other business (Dan Gilbert and Dave Larson)

4. Discussion of agenda items for the Fall 2000 meeting

10:30-12:00 p.m.—Committee on Price Indexes

1. Update on program developments

a. Consumer Price Index

b. International Price Indexes

c. Producer Price Indexes

2. Discussion of agenda items for the Fall meeting

1:30 p.m.-3:00 p.m.—Committee on Productivity and Foreign Labor Statistics

1. E-commerce and productivity measurement

2. International comparisons of Gross Domestic Product (GDP) and productivity

3. Effects of recent methodological changes on productivity data

4. Discussion of agenda items for the Fall 2000 meeting

1:30-3:00 p.m. Committee on Occupational Safety, Health and Working Conditions (Concurrent Session)

1. Review of industry summary data from the 1998 Survey of Occupational Injuries and Illnesses

2. Review of worker demographic and case circumstances data from the 1998 Survey of Occupational Injuries and Illnesses

3. 1998 Injury and Illnesses Profiles system

4. Review of data on musculoskeletal injuries and illnesses

5. Report on toxicology studies on workers fatally injured in 1998

6. E-commerce implications for occupational safety and health information

7. Discussion of agenda items for the Fall 2000 meeting

The meetings are open to the public. Persons with disabilities and those wishing to attend these meetings as observers should contact Tracy Jack, Liaison for BRAC, Bureau of Labor Statistics, at (202) 691-5869, for appropriate accommodations.

Signed at Washington, DC the 24th day of April 2000.
Katharine G. Abraham,
Commissioner.

[FR Doc. 00-10832 Filed 4-28-00; 8:45 am]

BILLING CODE 4510-24-M